LEGAL SERVICES CORPORATION

Pro Bono Innovation Fund; Process for Submitting Pre-Applications for 2025 Grants

AGENCY: Legal Services Corporation.

ACTION: Notice.

SUMMARY: The Legal Services Corporation (LSC) issues this Notice describing the conditions for submitting a Pre-Application for 2025 Pro Bono Innovation Fund grants.

DATES: Pre-applications must be submitted by 11:59 p.m. EST on Friday, January 10, 2025.

ADDRESSES: Letters of Intent must be submitted electronically at http://lscgrants.lsc.gov.

FOR FURTHER INFORMATION CONTACT: Katherine Harris, Special Grant Program Coordinator, Office of Program Performance, Legal Services Corporation, 1825 I Street NW, Suite 800, Washington, DC 20006; (202) 295-1572 or harrisk@lsc.gov.

SUPPLEMENTARY INFORMATION:

I. Introduction

Since 2014, Congress has provided an annual appropriation to LSC “for a Pro Bono Innovation Fund.” See, e.g., Consolidated Appropriations Act, 2017, Public Law 115-31, 131 Stat. 135 (2017). LSC requested these funds for grants to “develop, test, and replicate innovative pro bono efforts that can enable LSC grantees to expand clients' access to high-quality legal assistance.” LSC Budget Request, Fiscal Year 2014 at 26 (2013). The grants must involve innovations that are either “new ideas” or “new applications of existing best practices.” Id. Each grant would “either serve as a model for other legal services providers to follow or effectively replicate a prior innovation.” Id. The Senate Appropriations Committee explained that these funds “will support innovative projects that promote and enhance pro bono initiatives throughout the Nation,” and the House Appropriations Committee directed LSC “to increase the involvement of private attorneys in the delivery of legal services to [LSC-eligible] clients.” Senate Report 114-239 at 123 (2016), House Report 113-448 at 85 (2014).

Since its inception, the Pro Bono Innovation Fund (PBIF) has advanced LSC's goal of increasing the quantity and quality of legal services by funding efforts that more efficiently and effectively involve pro bono volunteers in serving the critical unmet legal needs of LSC-eligible clients. PBIF has three funding categories that are described in further detail below: Project, Sustainability, and Project Incubation Grants. In addition, PBIF is offering Grantee Engagement Scholarships to select FY26 Applicants.

II. Funding Opportunities Information

A. Eligible Applicants

To be eligible for PBIF grants, Applicants must be current grantees of LSC Basic Field-General, Basic Field-Migrant, or Basic Field-Native American Grants. To be eligible for a Sustainability Grant, Applicants must also have a 2024 PBIF Project Grant. To be eligible for a Project Incubation Grant, an organization must have never received PBIF funding, have not received a PBIF Grant since 2019, or have applied unsuccessfully for a PBIF Grant in 2025. Organizations eligible to apply for a Project Incubation Grant will receive a direct email from LSC confirming their eligibility.

B. PBIF Purpose and Key Goals

PBIF Grants develop, test, and replicate innovative pro bono efforts that can enable LSC grantees to use pro bono volunteers to serve more significant numbers of low-income clients and improve the quality and effectiveness of the services provided. The key goals of the PBIF are to:

1. Address gaps in the delivery of legal services to low-income people;

2. Engage more lawyers and other volunteers in pro bono service;

3. Develop, test, and replicate innovative pro bono efforts.

C. Funding Categories

1. Project Grants

Project Grants aim to leverage volunteers to provide client-centered legal assistance in areas of critical need. Consistent with the key goals of PBIF, Applicants are encouraged to focus on engaging volunteers to increase free civil legal aid for Americans with low incomes by proposing new, replicable ideas.

Applicants are strongly encouraged to research previous PBIF projects to replicate and improve them. LSC is particularly interested in applications that replicate projects previously funded with “Sustainability” Grants.

Project Grants can have either an 18 or 24-month term.

2. Sustainability Grants

Sustainability Grants are available to current PBIF grantees who received a 2024 Project Grant. Sustainability Grants provide the most promising and replicable PBIF projects with an additional 24 months of funding, enabling grantees to leverage new sources of revenue for the project and collect meaningful data to demonstrate its results and outcomes to clients and volunteers. Applicants for Sustainability Grants are asked to propose an ambitious strategy to reduce reliance on PBIF funding during the Sustainability Grant term.

Sustainability Grants have a 24-month term.

3. Project Incubation Grants

Project Incubation Grants provide funds for organizations to improve an existing pro bono opportunity using pro bono best practices and PBIF guidance provided through a structured program and other resources. Project Incubation Grants have a 24-month term.

Applicants who apply for, but do not receive, a Project Incubation Grant in FY26 can receive a PBIF Grantee Engagement Scholarship. Grantee Engagement Scholarships provide organizations with opportunities to continue their professional and programmatic growth through peer learning and knowledge sharing with the PBIF Team and the community.

D. Available Funds for 2026 Grants

The availability of funds for FY26 PBIF Grants depends on LSC's appropriation. LSC's FY26 funding level remains unknown. Decisions on FY26 PBIF Grants will be made in summer 2026, with LSC providing updated funding details as they become available.

E. Grant Terms

PBIF awards have grant terms of 18 or 24 months, depending on the grant category.

| 18 Months | 24 Months
Project Grants | ✓ | ✓
Sustainability Grants | X | ✓
Project Incubation Grants | X | ✓

Applicants for Project Grants may apply for either an 18- or a 24-month grant. Applicants for Sustainability and Project Incubation Grants will apply for a 24-month grant. The grant activities described in the application must cover the full proposed grant term, which commences on October 1, 2026.

III. Grant Application Process

A. PBIF Grant Application Process

The PBIF Application process is managed in LSC's grants management system, GrantEase. Applicants must first submit a Pre-Application to LSC in GrantEase by January 15, 2026, to be considered for funding. After review by LSC staff, LSC's President decides which Applicants will be invited to submit a Full Application. Applicants will be notified of invitations by early March 2026. Full Applications are due to LSC in the GrantEase system on May 8, 2026. Once received, Full Applications will undergo a rigorous review by LSC staff and other subject matter experts. LSC's President makes the final decision on funding for all PBIF grants.

B. Late or Incomplete Applications

LSC may consider a request to submit a Pre-Application after the deadline, but only if the Applicant has submitted an email to probonoinnovation@lsc.gov by January 13, 2026, explaining the circumstances that caused the delay. Communication with LSC staff, including assigned LSC Staff Contact, is not a substitute for sending a formal request and explanation to probonoinnovation@lsc.gov. At its discretion, LSC may consider incomplete Applications. LSC will determine the admissibility of late or incomplete Applications on a case-by-case basis.

C. Multiple Pre-Applications

Applicants may submit multiple Pre-Applications under the same or different funding categories. If applying for multiple grants, Applicants should submit separate Pre-Applications for each funding request.

D. Additional Information and Guidelines

Additional guidance and instructions on the PBIF Pre-Application and Full Application processes will be available and regularly updated at https://www.lsc.gov/grants/pro-bono-innovation-fund.

(Authority: 42 U.S.C. 2996g(e).)

Dated: November 17, 2025.
Stefanie Davis,
Deputy General Counsel, Legal Services Corporation.

[FR Doc. 2025-20319 Filed 11-18-25; 8:45 am]

BILLING CODE 7050-01-P